NATIONAL AERONAUTICS AND SPACE ADMINISTRATION

[Notice (01-063)]

Notice of Prospective Patent License

AGENCY: National Aeronautics and Space Administration.

ACTION: Notice of prospective patent license.

SUMMARY: NASA hereby gives notice that Thermosurgery Technology, Inc., of Phoenix, Arizona, has applied for an exclusive license to practice the invention described and claimed in U.S. Patent No. 6,083,158, entitled “Real-Time Visualization of Tissue Ischemia,” which is assigned to the United States of America as represented by the Administrator of the National Aeronautics and Space Administration. Written objections to the prospective grant of a license should be sent to NASA Management Office-JPL.

DATE(S): Responses to this notice must be received by July 30, 2001.

FOR FURTHER INFORMATION CONTACT: Patent Counsel, NASA Management Office-JPL, 4800 Oak Grove Drive, Mail Station 180-801, Pasadena, CA 91109-8099.

Dated: May 22, 2001.
Edward A. Frankle,
General Counsel.

[FR Doc. 01-13619 Filed 5-30-01; 8:45 am]

BILLING CODE 7510-01-U